DEPARTMENT OF TRANSPORTATION

Surface Transportation Board

[STB Finance Docket No. 34427]

Buffalo & Pittsburgh Railroad, Inc.—Lease and Operation Exemption—CSX Transportation, Inc.

AGENCY: Surface Transportation Board.

ACTION: Notice of Exemption.

SUMMARY: Under 49 U.S.C. 10502, the Board is granting a petition for exemption from the prior approval requirements of 49 U.S.C. 10902 for Buffalo & Pittsburgh Railroad, Inc., a Class II carrier, to lease from CSX Transportation, Inc., and operate a 40.8-mile rail line between milepost 10.4 at Glenshaw and milepost 51.2 at P&W Junction (New Castle), PA.

DATES: The exemption will be effective on December 23, 2003. Petitions to stay must be filed by December 15, 2003. Petitions to reopen must be filed by December 18, 2003.

ADDRESSES: An original and 10 copies of all pleadings referring to STB Finance Docket No. 34427 must be filed with the Surface Transportation Board, 1925 K Street, NW., Washington, DC 20423-0001. In addition, one copy of all pleadings must be served on petitioner's representative, Eric M. Hocky, Gollatz, Griffin & Ewing, P.C., Suite 200, Four Penn Center, 1600 John F. Kennedy Blvd., Philadelphia, PA 19103-2808.

FOR FURTHER INFORMATION CONTACT: Joseph H. Dettmar, (202) 565-1609. Assistance for the hearing impaired is available through the Federal Information Relay Service (FIRS) at 1-800-877-8339.

SUPPLEMENTARY INFORMATION: Additional information is contained in the Board's decision. Copies of the decision may be purchased from ASAP Document Solutions by calling (202) 293-7878 (assistance for the hearing impaired is available through FIRS at 1-800-877-8339) or by visiting Suite 405, 1925 K Street, NW., Washington, DC 20006.

Board decisions and notices are available on our website at http://www.stb.dot.gov.

Decided: December 4, 2003.
By the Board, Chairman Nober.
Vernon A. Williams,
Secretary.

[FR Doc. 03-30619 Filed 12-9-03; 8:45 am]

BILLING CODE 4915-00-P